DEPARTMENT OF HEALTH AND HUMAN SERVICES

Indian Health Service

[Funding Announcement Number: HHS-2013-IHS-OUIHP-0001]

Urban Indian Education and Research Organization Cooperative Agreement Program; Office of Urban Indian Health Programs; Announcement Type: New

Catalog of Federal Domestic Assistance Number: 93.193

Key Dates

Application Deadline Date: August 13, 2013.

Review Date: August 19, 2013.

Earliest Anticipated Start Date: September 1, 2013.

I. Funding Opportunity Description

Statutory Authority

The Indian Health Service (IHS) is accepting competitive cooperative agreement applications for the Urban Indian Education and Research Organization Cooperative Agreement Program project period September 1, 2013—August 31, 2016. This program is authorized under: the Indian Health Care Improvement Act (IHCIA), as amended, (25 U.S.C. 1652, 1654, and 1655), and Section 301(a) of the Public Health Service Act. This program is described in the Catalog of Federal Domestic Assistance under 93.193.

Background

The Office of Urban Indian Health Programs (OUIHP) oversees the implementation of the IHCIA provisions for making health services more accessible to urban Indians. Pursuant to those authorities, the IHS enters into contracts and grants with urban Indian organizations for the provision of health care and referral services for urban Indians residing in the urban centers. Those services may include (1) alcohol and substance abuse prevention, treatment, rehabilitation and education; (2) mental health needs and assessments; (3) health promotion and disease prevention services; and (4) immunization services. In addition, IHS may enter into contracts with and make grants to urban Indian organizations to employ American Indian and Alaska Natives (AI/AN) trained as Community Health Representatives to provide health care services.

Purpose

The purpose of this IHS cooperative agreement is to fund a national urban Indian organization to act as an education and research partner for OUIHP and urban Indian organizations funded under the Indian Health Care Improvement Act.

II. Award Information

Type of Award

Cooperative Agreement.

Estimated Funds Available

The total amount of funding identified for the current fiscal year, FY 2013, is approximately $800,000. Individual award amounts are anticipated to be between $500,000 and $800,000. Competing and continuation awards issued under this announcement are subject to the availability of funds. In the absence of funding, the IHS is under no obligation to make awards that are selected for funding under this announcement.

Anticipated Number of Awards

One award will be issued under this program announcement.

Project Period

The cooperative agreement project period is September 1, 2013 to August 31, 2016.

Cooperative Agreement

In the Department of Health and Human Services (HHS), a cooperative agreement is administered under the same policies as a grant. The funding agency (IHS) is required to have substantial programmatic involvement in the project during the entire award segment. Below is a detailed description of the level of involvement required for both IHS and the grantee. IHS will be responsible for activities listed under section A and the grantee will be responsible for activities listed under section B as stated:

Substantial Involvement Description for Cooperative Agreement

A. IHS Programmatic Involvement

In addition to the usual monitoring and technical assistance provided under the cooperative agreement, the IHS/OUIHP responsibilities shall include:

(1) Assurance of the availability of the services of experienced staff to participate in the planning and development of all phases of this cooperative agreement;

(2) Working closely with the IHS Public Affairs Office regarding dissemination of publications completed under the cooperative agreement, and cooperating on the referral of inquiries and request for technical assistance, publications and other information;

(3) Participation in, including the planning of, any meetings conducted as part of project activities;

(4) Assistance in establishing federal interagency and state contacts necessary for the successful completion of tasks and activities identified in the approved scope of work;

(5) Identification of other awardees and organizations with whom the awardee will be asked to develop cooperative and collaborative relationships; and

(6) Assisting the awardee to establish, review and update priorities for activities conducted under the auspices of the cooperative agreement.

B. Grantee Cooperative Agreement Award Activities

Requirements and obligations of the cooperative agreement recipient shall include:

(1) Work collaboratively with the urban Indian organizations funded under the IHCIA;

(2) Respond in a flexible manner to collaborating on occasional short-term projects, in addition to long-term and on-going efforts;

(3) Work closely with the Federal Project Officer when hiring new key project staff and planning/implementing new activities;

(4) Consult with the Federal Project Officer before scheduling any meetings, including project advisory/steering committee meetings, that pertain to the scope of work and at which the Project Officer's attendance would be appropriate;

(5) Provide the Federal Project Officer with the opportunity to review, provide advisory input, and approve at the program level, any publications, audiovisuals and other materials produced, as well as meetings/conferences planned, under the auspices of this cooperative agreement (such review should start as part of concept development and include review of drafts and final products);

(6) Provide the Federal Project Officer with an electronic copy of, or electronic access to, each product developed under the auspices of this project;

(7) Participate in the implementation of awardee performance measures, including the collection of information and administrative data, as designated by the OUIHP;

(8) Ensure that all products developed or produced, either partially or in full, under the auspices of this cooperative agreement are fully accessible and available for free to members of the public;

(9) Identify IHS/OUIHP as a funding sponsor on written products and during meetings and conferences relevant to cooperative agreement activities; and

(10) Acknowledge IHS/OUIHP has uncontested access to any and all data generated under this cooperative agreement, and agree to provide royalty-free, nonexclusive, and irrevocable license for the government to reproduce, publish, or otherwise use any products derived from activities conducted under this cooperative agreement.

(11) Comply with relevant Office of Management and Budget (OMB) Circular provisions regarding lobbying, any applicable lobbying restrictions provided under other law and any applicable restriction on the use of appropriated funds for lobbying activities.

C. Joint Responsibilities of Awardee and IHS/OUIHP

The IHS/OUIHP and the awardee have a joint responsibility to determine which issues will be addressed during the project period, the sequence in which they will be addressed, what approaches and strategies will be used to address them, and how relevant information will be transmitted to specified target audiences and used to enhance project activities and advance the program.

III. Eligibility Information

1. Eligibility

This is a competitive application for an urban Indian organization as defined by 25 U.S.C. 1603(29), which has a Board of Directors that is at least 51 percent urban Indian and can demonstrate the Board of Directors is governed primarily by the urban Indian organizations from diverse locations. The applicant must provide proof of non-profit status, e.g. 501(c)(3), and a listing of Board members including their status as an urban Indian, professions, education degrees, and board appointment terms.

Note: Please refer to Section IV.2 (Application and Submission Information/Subsection 2, Content and Form of Application Submission) for additional proof of applicant status documents required such as proof of non-profit status, etc.

2. Cost Sharing or Matching

The IHS does not require matching funds or cost sharing for grants or cooperative agreements.

3. Other Requirements

If application budgets exceed the highest dollar amount outlined under the “Estimated Funds Available” section within this funding announcement, the application will be considered ineligible and will not be reviewed for further consideration. If deemed ineligible, IHS will not return the application. The applicant will be notified by email by the Division of Grants Management (DGM) of this decision.

Proof of Non-Profit Status

Organizations claiming non-profit status must submit proof. A copy of the 501(c)(3) Certificate must be received with the application submission by the Application Deadline Date listed under the Key Dates section on page one of this announcement.

An applicant submitting any of the above additional documentation after the initial application submission due date is required to ensure the information was received by the IHS by obtaining documentation confirming delivery (i.e. FedEx tracking, postal return receipt, etc.).

IV. Application and Submission Information

1. Obtaining Application Materials

The application package and detailed instructions for this announcement can be found at http://www.Grants.gov or https://www.ihs.gov/dgm/index.cfm?module=dsp_dgm_funding.

Questions regarding the electronic application process may be directed to Paul Gettys at (301) 443-5204.

2. Content and Form Application Submission

The applicant must include the project narrative in the appendix to the application package. Mandatory documents for all applicants include:

• Table of contents.

• Abstract (one page) summarizing the project.

• Application forms:

○ SF-424, Application for Federal Assistance.

○ SF-424A, Budget Information—Non-Construction Programs.

○ SF-424B, Assurances—Non-Construction Programs.

• Budget Justification and Narrative (must be single spaced and not exceed five pages).

• Project Narrative (must be single spaced and not exceed 70 pages).

○ Background information on the organization.

○ Proposed scope of work, objectives, and activities that provide a description of what will be accomplished, including a Time Frame Chart.

• Letter of Support from Organization's Board of Directors.

• 501(c)(3) Certificate

• Biographical sketches for all Key Personnel.

• Contractor/Consultant resumes or qualifications and scope of work.

• Disclosure of Lobbying Activities (SF-LLL).

• Certification Regarding Lobbying (GG-Lobbying Form).

• Copy of current Negotiated Indirect Cost (IDC) rate agreement (required) in order to receive IDC.

• Copy of Current Approved Organizational Chart.

• Documentation of current Office of Management and Budget (OMB) A-133 required Financial Audit.

Acceptable forms of documentation include:

○ Email confirmation from Federal Audit Clearinghouse (FAC) that audits were submitted; or

○ Face sheets from audit reports. These can be found on the FAC Web site: http://harvester.census.gov/sac/dissem/accessoptions.html?submit=Go+To+Database.

Public Policy Requirements

All Federal-wide public policies apply to IHS grants with exception of the Discrimination policy.

Requirements for Project and Budget Narratives

A. Project Narrative: This narrative should be a separate Word document that is no longer than 70 pages and must: be single-spaced, be type written, have consecutively numbered pages, use black type not smaller than 12 characters per one inch, and be printed on one side only of standard size 8½″ x 11″ paper.

Be sure to succinctly answer all questions listed under the evaluation criteria (refer to Section V.1, Evaluation criteria in this announcement) and place all responses and required information in the correct section (noted below), or they will not be considered or scored. These narratives will assist the Objective Review Committee (ORC) in becoming more familiar with the grantee's activities and accomplishments prior to this grant award. If the narrative exceeds the page limit, only the first 70 pages will be reviewed. The 70-page limit for the narrative does not include the work plan, standard forms, table of contents, budget, budget justifications, narratives, and/or other appendix items.

There are three parts to the narrative: Part A—Program Information; Part B—Program Planning and Evaluation; and Part C—Program Report. See below for additional details about what must be included in the narrative.

Part A: Program Information

Section 1: Needs—Public Policy, Research and Data, Structured Training and Technical Assistance for UIOs, Education, Public Relations, and Marketing of UIOs

This section outlines the needs of urban Indian organizations. The target population and its unmet health needs must be described and documented in this section. Include socio-cultural determinants of health and health disparities impacting the urban Indian population or communities served and unmet. Demographic data should be used and cited whenever possible to support the information provided. Please discuss any relevant barriers that the project hopes to overcome. This section should help reviewers understand the urban Indian organizations that will be served by the proposed project.

Instructions

Applicants should summarize the need for services including: (1) Public policy, (2) research and data, (3) structured training and technical assistance for urban Indian organizations, and (4) education, public relations and marketing of urban Indian organizations. Describe how the applicant determined it has the administrative infrastructure to provide these services. Explain the previous planning activities the applicant has completed and if the applicant has identified or will establish best-practices or evidence-based practices relative to these services.

(1) Public Policy

A. Applicants should summarize the public policy opportunities and challenges of health care reform on urban Indian organizations: Public Law 111-148, The Patient Protection and Affordable Care Act (ACA) of March 21, 2010; House of Representatives 4872, the Health Care and Education Reconciliation Act of March 23, 2010; and the Indian Health Care Improvement Reauthorization and Extension Act of 2009 (IHCIA).

B. Applicants should identify and align the urban Indian organizations' priorities with the Agency priorities in the context of health care reform. Applicants should describe how the Healthy People 2020 goals and objectives will be incorporated to guide their national health promotion and disease prevention efforts to improve the health of urban Indians. These priorities should align with the urban Indian organizations' budget formulation process that establishes their specific health priorities.

C. Applicants should summarize the need to work with, but not be limited to, the Centers for Medicaid and Medicare Services (CMS), Health Resources and Services Administration (HRSA), Substance Abuse and Mental Health Services Administration (SAMHSA), Centers for Disease Control and Prevention (CDC), and Agency for Healthcare Research and Quality (AHRQ), and states to be able to proactively plan, implement, and evaluate the impact of their activities on urban Indian organizations' priorities for health care reform. The work with AHRQ needs to include specialized focus on the Patient Centered Medical Home (PCMH), which is a model for transforming the organization and delivery of primary care, and its potential to improve the quality, safety, efficiency, and effectiveness of urban Indian health care. The AHRQ PCMH Resource Center is a valuable tool to achieve intended outcomes.

D. Applicants should summarize the need to make certain that public policy program activities are complementary, coordinated and non-duplicative.

E. Applicants should summarize the need to enhance communication, interaction and coordination on health care reform activities by initiating and maintaining partnerships and collaborative relationships with other urban Indian organizations, national Indian Tribal organizations, key state and local health entities, and education and safety networks.

(2) Research and Data

A. Applicants should describe the need to collect and analyze health disparities data, morbidity and mortality data, urban Indian health services costs data and conduct data analyses in order to reduce urban Indian health disparities and identify, improve, evaluate, and document urban Indian organization practice-based and evidence-based best practices.

B. Applicants should summarize the need to have access to cost and cost-benefit information to create accurate reasonable annual urban Indian health budgets.

C. Applicants should describe coordination with IHS funded Tribal and Urban Epidemiological Centers, the CDC, and the IHS to reduce and/or eliminate barriers that prevent access to data.

(3) Structured Training and Technical Assistance for Urban Indian Organizations

A. Applicants should describe the need for education, technical support and training to urban Indian organizations as they implement health care reform and work with the Health Insurance Marketplace to implement, sustain and improve access to quality health care services for urban Indians.

B. Applicants should describe the need for training and technical assistance to support urban Indian organization administration: (1) Board of directors: roles and responsibilities, criteria to guide medical staff credentialing and privileging, and ensure quality and patient safety; (2) develop business plans; (3) enhance revenue and third-party billing; (4) achieve and maintain program accreditation; (5) acquire state licensure, PCMH certification or other state credentialing; and (6) enrollment in Medicaid, Medicare, State Children's Health Insurance Programs, and qualified health plans through an Exchange, whether State-based, Federally-facilitated, or a Partnership arrangement.

(4) Education, Public Relations and Marketing of Urban Indian Organizations

A. Applicants should summarize the need to market the urban Indian organizations through development of national, regional and local marketing strategies and campaigns.

B. Applicants should describe the need for enhanced communication among local private and non-profit health care entities and county and state health departments.

C. Applicants should describe their communications strategy and collaborative activities.

Part B: Program Planning and Evaluation

Section 1: Program Plans—Methodology, Project Goals and Objectives, Project Logic Model, Work Plan, Resolution of Challenges, and Impact

Methodology

Propose methods that will be used to meet each of the previously-described program requirements and expectations in this funding opportunity announcement. As appropriate, include development of effective tools and strategies for ongoing staff training, outreach, collaborations, clear communication, and information sharing/dissemination with efforts to involve urban Indian organization staff and patients, Federal entities, and state health personnel.

Goals and Objectives

Applicants should state the goals for the proposed project. Project goals, which should be national in scope, describe the desired long-term outcomes. Project goals need to align with and incorporate the Healthy People 2020 benchmarks and be monitored to encourage collaborations, empower individuals toward making informed health decisions, and measure the impact of prevention activities to improve the health of urban Indians.

These goals are broad statements that establish the overall direction for, and focus of, a project. They serve as the foundation for developing project objectives.

Applicants should provide at least one specific, achievable, measurable, time-framed outcome objective for each proposed project goal. Outcome objectives are specific statements of positive change to be effected in order to achieve the goals of the project. That is, outcome objectives are measurable steps, or stepping stones, for reaching goals. They form the basis for monitoring progress toward achieving project goals and setting targets for accountability. Each objective should be specific; stated in measurable terms; be achievable within a given time frame and available resources; be relevant to and congruent within the larger project goal; and include a specific time frame for achievement. Collectively, the proposed outcome objectives should frame the set of national outcomes that the applicant wants to achieve in meeting project goals.

Instructions

1. Applicants should describe proposed approaches and activities for achieving project goals and objectives. Methods or activities should be presented for addressing each focus of intent for the four service areas for which application is made, as outlined in Part A. Program Information Needs. In particular, applicants should demonstrate that the proposed methodological approaches are national in scope and contribute to increased capacity within the urban Indian health system.

2. Applicants should describe the specific activities necessary to carry out each methodological approach. Applicants should take into consideration the logic, technical soundness, feasibility, creativity and innovativeness, potential utility, and national applicability of the activities it proposes.

3. The description of the project methodology should extend across the three years of the project effort.

4. Applicants should develop a project logic model, a systematic diagram, that links anticipated outcomes with the project's activities/processes and theoretical assumptions. It should include the following basic components: Resources/inputs, activities, outputs, outcomes, and impacts. (A useful resource is the logic model Development Guide, W.K. Kellogg Foundation, 2004, available at http://www.wkkf.org). The project logic model should be included as part of the application appendix.

5. Evidence should be provided that the approaches and activities can reasonably be expected to be effective. Literature relevant to the methodology may be cited as appropriate.

Work Plan

Describe the activities or steps that will be used to achieve each of the activities proposed during the entire project period in the Methodology section. Use a time line that includes each activity and identifies responsible staff. As appropriate, identify meaningful support and collaboration with key stakeholders in planning, designing and implementing all activities, including development of the application and, further, the extent to which these contributors reflect the cultural and geographic diversity of the urban Indian and urban Indian organization locations.

Instructions

1. Applicants should include a Work Plan that describes the sequence of specific activities and steps that will be used to carry out each proposed methodological approach. Applicants should explicitly describe who will conduct each activity, as well as when, where, and how each activity will be carried out.

2. A detailed time line of proposed project activities should be developed by the applicant, and attached as an appendix. The time line should link activities to project objectives and should cover the three years of the project period.

3. Applicants should describe an efficient and effective plan for managing the project, including its personnel and resources.

4. Applicants should describe an effective plan for monitoring and tracking project activities.

Resolution of Challenges

Discuss challenges that are likely to be encountered in designing and implementing the activities described in the work plan sections, as well as approaches that will be used to address such challenges.

Instructions

Applicants should discuss challenges, including both opportunities and barriers, that are likely to be encountered in designing and implementing the activities described in the Description of Methodology and Work Plan sections, as well as approaches that will be used to address such challenges.

Impact

This section of the Project Narrative discusses the proposed project's national audiences that the applicant plans to engage, and how project activities will yield materials, resources and other benefits for them.

Instructions

1. Applicants should explain how the proposed project's products and results will have a national scope and applicability.

2. Applicants should provide an inclusive description of its national target audiences as well as its proposed strategies for reaching these audiences. The plan should include, but not be limited to, electronic and Internet capacity.

3. Applicants should describe how and to what extent the proposed project activities will directly improve leadership within the urban Indian health services and systems being targeted, and contribute to improve health status among urban Indians. The applicant should include a description of how it intends to mobilize its audiences to learn from and actually use the materials, products and resources it has developed to address the four program requirements identified in Part A. Program Information Needs.

Section 2: Program Evaluation

Evaluation and Technical Support Capacity

Describe current experience, skills, and knowledge, including individuals on staff, materials published, and previous work of a similar nature. As appropriate, describe the data collection strategy to collect, analyze and track data to measure process and impact/outcomes, with urban Indian organizations, Tribes, national Indian organizations and states and explain how the data will be used to inform program development and service delivery.

Evaluation and self-assessment have vital importance for quality improvement and assessing the value-added contribution of urban Indian education and research investments. Consequently, cooperative agreement projects are expected to incorporate a carefully designed and well-planned evaluation protocol capable of demonstrating and documenting measurable progress toward reaching the project's stated goals through achievement of the project's measurable objectives. The evaluation protocol should be based on a clear rationale relating the identified needs of the target population with project goals, award activities, and the evaluation measures. Whenever possible, the measurements of progress toward goals should focus on outcomes and results over which the project has some degree of influence, rather than on intermediate measures such as process or outputs. However, it is understood that efforts similar to the categories of the Urban Indian Education and Research Organization Cooperative Agreement program frequently focus on intermediate measures as part of their evaluation. Applicants are encouraged to incorporate the expertise of a professional evaluation specialist (either on-staff or as a consultant) at the design stage of the project methodology.

Instructions

1. Applicants should provide a well-conceived and logical plan for assessing the achievement of the project's process and outcome objectives and for evaluating changes in the specific problems and contributing factors. The evaluation plan should focus primarily on outcomes over which the project has influence and that have the capacity to produce meaningful data on an annual basis.

2. Applicants should develop at least two (2) performance measures by which it will track its progress over time. A performance measure is a quantifiable indicator of progress and achievement that includes outcome, output, input, efficiency, and explanatory indicators. It can measure such domains as productivity, effectiveness, quality and timeliness (Government Accounting Standards Board, http://www.seagov.org/aboutpmg/performance_measurement.shtml).

Part C: Program Report

Section 1: Describe major accomplishments over the last 24 months. Please identify and describe significant program achievements associated with the delivery of quality health services. Provide a comparison of the actual accomplishments to the goals established for the project period, or if applicable, provide justification for the lack of progress.

Section 2: Describe major activities over the last 12 months. Please identify and summarize recent major health related project activities of the work done during the project period.

B. Budget Narrative: This narrative must describe the budget requested and match the scope of work described the project narrative. The budget narrative should not exceed five pages.

3. Submission Dates and Times

Applications must be submitted electronically through Grants.gov by 12:00 a.m., midnight Eastern Daylight Time (EDT) on the Application Deadline Date listed in the Key Dates section on page one of this announcement. Any application received after the application deadline will not be accepted for processing, nor will it be given further consideration for funding. The applicant will be notified by the DGM via email of this decision.

If technical challenges arise and assistance is required with the electronic application process, contact Grants.gov Customer Support via email to support@grants.gov or at (800) 518-4726. Customer Support is available to address questions 24 hours a day, 7 days a week (except on Federal holidays). If problems persist, contact Paul Gettys, DGM (Paul.Gettys@ihs.gov) at (301) 443-5204. Please be sure to contact Mr. Gettys at least ten days prior to the application deadline. Please do not contact the DGM until you have received a Grants.gov tracking number. In the event you are not able to obtain a tracking number, call the DGM as soon as possible.

If the applicant needs to submit a paper application instead of submitting electronically via Grants.gov, prior approval must be requested and obtained (see Section IV.6 below for additional information). The waiver must be documented in writing (emails are acceptable), before submitting a paper application. A copy of the written approval must be submitted along with the hardcopy that is mailed to the DGM. Once a waiver request has been approved, the applicant will receive a confirmation of approval and the mailing address to submit the application. Paper applications that are submitted without a waiver from the Acting Director of DGM will not be reviewed or considered further for funding. The applicant will be notified via email of this decision by the Grants Management Officer of DGM. Paper applications must be received by the DGM no later than 5:00 p.m., EDT, on the Application Deadline Date listed in the Key Dates section on page one of this announcement. Late applications will not be accepted for processing or considered for funding.

4. Intergovernmental Review

Executive Order 12372 requiring intergovernmental review is not applicable to this program.

5. Funding Restrictions

• Pre-award costs are not allowable.

• The available funds are inclusive of direct and appropriate indirect costs.

• Only one grant/cooperative agreement will be awarded per applicant.

• IHS will not acknowledge receipt of applications.

6. Electronic Submission Requirements

All applications must be submitted electronically. Please use the http://www.Grants.gov Web site to submit an application electronically and select the “Find Grant Opportunities” link on the homepage. Download a copy of the application package, complete it offline, and then upload and submit the completed application via the http://www.Grants.gov Web site. Electronic copies of the application may not be submitted as attachments to email messages addressed to IHS employees or offices.

If an applicant receives a waiver to submit paper application documents, please follow the rules and time lines that are noted below. The applicant must seek assistance at least ten days prior to the Application Deadline Date listed in the Key Dates section on page one of this announcement.

Applicants that do not adhere to the time lines for System for Award Management (SAM) and/or http://www.Grants.gov registration or that fail to request timely assistance with technical issues will not be considered for a waiver to submit a paper application.

Please be aware of the following:

• Please search for the application package in http://www.Grants.gov by entering the CFDA number or the Funding Opportunity Number. Both numbers are located in the header of this announcement.

• If you experience technical challenges while submitting your application electronically, please contact Grants.gov Support directly at: support@grants.gov or (800) 518-4726. Customer Support is available to address questions 24 hours a day, 7 days a week (except on Federal holidays).

• Upon contacting Grants.gov, obtain a tracking number as proof of contact. The tracking number is helpful if there are technical issues that cannot be resolved and a waiver from the agency must be obtained.

• If it is determined that a waiver is needed, the applicant must submit a request in writing (emails are acceptable) to GrantsPolicy@ihs.gov with a copy to Tammy.Bagley@ihs.gov. Please include a clear justification for the need to deviate from the standard electronic submission process.

• If the waiver is approved, the application should be sent directly to the DGM by the Application Deadline Date listed in the Key Dates section on page one of this announcement.

• Applicants are strongly encouraged not to wait until the deadline date to begin the application process through Grants.gov as the registration process for SAM and Grants.gov could take up to fifteen working days.

• Please use the optional attachment feature in Grants.gov to attach additional documentation that may be requested by the DGM.

• All applicants must comply with any page limitation requirements described in this Funding Announcement.

• After electronically submitting the application, the applicant will receive an automatic acknowledgment from Grants.gov that contains a Grants.gov tracking number. The DGM will download the application from Grants.gov and provide necessary copies to the appropriate agency officials. Neither the DGM nor the OUIHP will notify the applicant that the application has been received.

• Email applications will not be accepted under this announcement.

Dun and Bradstreet (D&B) Data Universal Numbering System (DUNS)

All IHS applicants and grantee organizations are required to obtain a DUNS number and maintain an active registration in the SAM database. The DUNS number is a unique 9-digit identification number provided by D&B which uniquely identifies each entity. The DUNS number is site specific; therefore, each distinct performance site may be assigned a DUNS number. Obtaining a DUNS number is easy, and there is no charge. To obtain a DUNS number, please access it through http://fedgov.dnb.com/webform, or to expedite the process, call (866) 705-5711.

All HHS recipients are required by the Federal Funding Accountability and Transparency Act of 2006, as amended (“Transparency Act”), to report information on subawards. Accordingly, all IHS grantees must notify potential first-tier subrecipients that no entity may receive a first-tier subaward unless the entity has provided its DUNS number to the prime grantee organization. This requirement ensures the use of a universal identifier to enhance the quality of information available to the public pursuant to the Transparency Act.

System for Award Management (SAM)

Organizations that were not registered with Central Contractor Registration (CCR) and have not registered with SAM will need to obtain a DUNS number first and then access the SAM online registration through the SAM home page at https://www.sam.gov (U.S. organizations will also need to provide an Employer Identification Number from the Internal Revenue Service that may take an additional 2-5 weeks to become active). Completing and submitting the registration takes approximately one hour to complete and SAM registration will take 3-5 business days to process. Registration with the SAM is free of charge. Applicants may register online at ­ https://www.sam.gov.

Additional information on implementing the Transparency Act, including the specific requirements for DUNS and SAM, can be found on the IHS Grants Management, Grants Policy Web site: https://www.ihs.gov/dgm/index.cfm?module=dsp_dgm_policy_topics.

V. Application Review Information

The instructions for preparing the application narrative also constitute the evaluation criteria for reviewing and scoring the application. Weights assigned to each section are noted in parentheses. The 70-page narrative should include only the first year of activities; information for multi-year projects should be included as an appendix. See “Multi-year Project Requirements” at the end of this section for more information. The narrative section should be written in a manner that is clear to outside reviewers unfamiliar with prior related activities of the applicant. It should be well organized, succinct, and contain all information necessary for reviewers to understand the project fully. Points will be assigned to each evaluation criteria adding up to a total of 100 points. A minimum score of 70 points is required for funding. Points are assigned as follows:

1. Criteria

A. Program Information and Need for Assistance (20 points)

In the context of Healthy People 2020: (1) The target population and its unmet health needs are described and documented; (2) Socio-cultural determinants of health and health disparities impacting the urban Indian population or communities served are identified and described; (3) Demographic data is used and cited to support the information provided; (4) Relevant barriers that the project hopes to overcome are discussed; (5) Information provided helps reviewers understand the urban Indian organizations that will be served by the proposed project; (6) Describe how the applicant determined it has the administrative infrastructure to provide the four program requirements: public policy, research and data, structured training and technical assistance and for urban Indian organizations, and education, public relations and marketing of urban Indian organizations; and (7) Explain previous planning activities the applicant has completed and if the applicant has identified or will establish best-practices or evidence-based practices relative to each of the four program requirements.

(1) Public Policy

A. Summarize the public policy opportunities and challenges of health care reform on urban Indian organizations.

B. Identify and align the urban Indian organizations' priorities with the Agency priorities in the context of health care reform. Describe how the Healthy People 2020 goals and objectives are incorporated to guide national health promotion and disease prevention efforts. The priorities should align with the urban Indian organizations' budget formulation process that establishes their specific health priorities.

C. Summarize the need to work with the HHS Operating Divisions including CMS, HRSA, SAMHSA, CDC, AHRQ, and states to proactively plan, implement, and evaluate the impact of activities on urban Indian organizations' priorities for health care reform.

D. Summarize the need to make certain that public policy program activities are complementary, coordinated and non-duplicative.

E. Summarize enhanced communication, interaction, and coordination of health care reform activities, such as the PCMH model, by initiating and maintaining partnerships and collaborative relationships with national Indian Tribal organizations, key state and local health entities, and education and safety networks.

(2) Research and Data

F. Describe the need to collect and analyze health disparities data, morbidity and mortality data, urban Indian health services costs data and conduct data analyses in order to reduce urban Indian health disparities and identify, improve, evaluate, and document urban Indian organizations' practice-based and evidence-based best practices.

G. Summarize the need to have access to cost and cost-benefit information to create accurate reasonable annual urban Indian health budgets.

H. Describe coordination with IHS funded Tribal and Urban Epidemiological Centers, the CDC, and the IHS to reduce and/or eliminate barriers that prevent access to data.

(3) Structured Training and Technical Assistance for Urban Indian Organizations

I. Describe the need for education, technical support and training to urban Indian organizations as they implement health care reform and work with the Health Insurance Marketplace to implement, sustain and improve access to quality health care services for urban Indians.

J. Describe the need for training and technical assistance to support urban Indian organization administration: (1) Board of directors: roles and responsibilities, criteria to guide medical staff credentialing and privileging, and ensure quality and patient safety, (2) develop business plans, (3) enhance revenue and third-party billing, (4) achieve and maintain program accreditation, (5) acquire state licensure, PCMH certification or other state credentialing, and (6) enrollment in Medicaid, Medicare and SHCIP programs.

(4) Education, Public Relations and Marketing of Urban Indian Organizations

K. Summarize the need to market the urban Indian organizations through development of national, regional and local marketing strategies and campaigns.

L. Describe the need for enhanced communication among local private and non-profit health care entities and county and state health departments.

M. Describe communications strategy and collaborative activities.

B. Project Objective(s) and Approach (40 points)

Program Plans—Goals and Objectives, Methodology, Project Logic Model, Work Plan, Resolution of Challenges, and Impact

Describe methods that will be used to meet each of the four program requirements and expectations in this funding opportunity announcement. Address development of effective tools and strategies for ongoing staff training, outreach, collaborations, clear communication, and information sharing/dissemination with efforts to involve urban Indian organization staff and patients, Federal entities, and state health personnel.

Goals and Objectives

State the goals for each program requirement. Project goals are national in scope, describe the desired long-term outcomes for each program requirement, and align with and incorporate the Healthy People 2020 benchmarks.

Provide at least one specific, achievable, measurable, time-framed outcome objective for each proposed project goal. Each objective identified is specific, stated in measurable terms, achievable within a specified time frame and the available resources, is relevant to and congruent within the larger project goal; and includes a specific time frame for achievement. The proposed outcome objectives frame the set of national outcomes the applicant wants to achieve in meeting project goals.

Methodology

1. Applicant described proposed approaches and activities for achieving project goals and objectives. Methods or activities are presented for addressing each focus of intent for each of the four program requirements outlined in Part A. Program Information Needs. Applicant demonstrates that the proposed methodological approaches are national in scope and contribute to increased capacity within the urban Indian health system.

2. Applicant described the specific activities necessary to carry out each methodological approach. Applicant demonstrated consideration of logic, technical soundness, feasibility, creativity and innovativeness, potential utility, and national applicability of the activities it proposed.

3. The description of the project methodology extends across the three years of the project effort.

4. The applicant developed a project logic model, a systematic diagram, that links anticipated outcomes with the project's activities/processes and theoretical assumptions. It includes the following basic components: Resources/inputs, activities, outputs, outcomes, and impacts. The project logic model is included as part of the application appendix.

5. Applicant provided evidence that its approaches and activities can reasonably be expected to be effective. Literature relevant to the methodology is cited as appropriate.

Work Plan

A work plan is included that describes the sequence of specific activities and steps that will be used to carry out each proposed methodological approach. The applicant explicitly described who will conduct each activity, as well as when, where, and how each activity will be carried out. A detailed time line of proposed project activities was developed and included in the appendix. The time line links activities to project objectives and covers the three years of the project period. The applicant described an efficient and effective plan for managing the project, including its personnel and resources. The applicant described an effective plan for monitoring and tracking project activities.

Resolution of Challenges

The applicant identified and discussed challenges, including both opportunities and barriers, that are likely to be encountered in designing and implementing the activities described in the Description of Methodology and Work Plan sections, as well as approaches that will be used to address such challenges.

Impact

The applicant explained how the proposed project's products and results will have a national scope and applicability. The applicant provided an inclusive description of its national target audiences as well as its proposed strategies for reaching these audiences. The plan includes, but is not limited to, electronic and Internet capacity. The applicant described how and to what extent the proposed project activities will directly improve leadership with the urban Indian health services and systems being targeted, and contribution to improve health status among urban Indians. The applicant included a description of how it intends to mobilize its audiences to learn from and actually use the materials, products and resources it has developed to address the four services areas identified in A. Program Information needs.

C. Program Evaluation and Technical Support Capacity (15 points)

The applicant provided a well-conceived and logical plan for assessing the achievement of the project's process and outcome objectives and for evaluating changes in the specific problems and contributing factors. The evaluation plan focuses primarily on outcomes over which the project has influence and that have the capacity to produce meaningful data on an annual basis.

The applicant developed at least two (2) performance measures by which it will track its progress over time. The performance measures are quantifiable indicators of progress and achievement that include outcome, output, input, efficiency, and explanatory indicators. The performance measures can be measured by domains including productivity, effectiveness, quality and timeliness.

D. Organizational Capabilities, Key Personnel and Qualifications (15 points)

Organizational Capabilities

The applicant identified its credibility including how long and why the organization exists, accomplishments and impact, size and characteristics of its constituency, its funding sources and their positive comments on the organization's work, and results of internal and external evaluations of the programs. Include a listing of the current Board of Directors (the listing of Board members includes their status as an urban Indian, professions, education degrees, and board appointment terms) and discuss the organization's administrative capacity including OMB Circular administrative requirements for non-profit organizations, fiscal and human resources policies and procedures and audit reporting.

Key Personnel and Qualifications

Identify current staff and new staff education, experience, skills, and knowledge; materials published; and previous work of a similar nature. Describe data collection strategy to collect, analyze and track data to measure process and impact/outcomes with urban Indian organizations, Tribes, national Indian organizations and states and explain how the data will be used to inform program development and service delivery.

E. Categorical Budget and Budget Justification (10 points)

The applicant was specific and provided an itemized categorical budget and a clear succinct budget narrative justification to support the scope of work described in the project narrative.

Multi-Year Project Requirements (if applicable)

Projects requiring second and third years must include a brief project narrative and budget (one additional page per year) addressing the developmental plans for each additional year of the project. Required information on multi-years should be included as an appendix.

Appendix Items

• Work plan, logic model and/or time line for proposed objectives.

• Position descriptions for key staff.

• Resumes of key staff that reflect current duties.

• Consultant or contractor proposed scope of work and letter of commitment (if applicable).

• Current Indirect Cost Rate Agreement.

• Organizational chart(s) highlighting proposed project staff and their supervisors as well as other key contacts within the organization and key community contacts.

• Additional documents to support narrative (i.e. data tables, key news articles, etc.).

2. Review and Selection

Each application will be prescreened by the DGM staff for eligibility and completeness as outlined in the funding announcement. Incomplete applications and applications that are non-responsive to the eligibility criteria will not be referred to the ORC. Applicants will be notified by DGM, via email, to outline minor missing components (i.e., signature on the SF-424, audit documentation, key contact form) needed for an otherwise complete application. All missing documents must be sent to DGM on or before the due date listed in the email of notification of missing documents required.

To obtain a minimum score for funding by the ORC, applicants must address all program requirements and provide all required documentation. If an applicant receives less than a minimum score, it will be considered to be “Disapproved” and will be informed via email by the IHS program office of their application's deficiencies. A summary statement outlining the strengths and weaknesses of the application will be provided to each disapproved applicant. The summary statement will be sent to the Authorized Organizational Representative (AOR) that is identified on the face page (SF-424), of the application within 30 days of the completion of the Objective Review.

VI. Award Administration Information

1. Award Notices

The Notice of Award (NoA) is a legally binding document signed by the Grants Management Officer and serves as the official notification of the grant award. The NoA will be initiated by the DGM in our grant system, GrantSolutions (https://www.grantsolutions.gov). Each entity that is approved for funding under this announcement will need to request or have a user account in GrantSolutions in order to retrieve their NoA. The NoA is the authorizing document for which funds are dispersed to the approved entities and reflects the amount of Federal funds awarded, the purpose of the grant, the terms and conditions of the award, the effective date of the award, and the budget/project period.

Disapproved Applicants

Applicants who received a score less than the recommended funding level for approval, 70, and were deemed to be disapproved by the ORC, will receive an Executive Summary Statement from the IHS program office within 30 days of the conclusion of the ORC outlining the weaknesses and strengths of their application submitted. The IHS program office will also provide additional contact information as needed to address questions and concerns as well as provide technical assistance if desired.

Approved But Unfunded Applicants

Approved but unfunded applicants that met the minimum scoring range and were deemed by the ORC to be “Approved”, but were not funded due to lack of funding, will have their applications held by DGM for a period of one year. If additional funding becomes available during the course of FY 2013, the approved application maybe reconsidered by the awarding program office for possible funding. The applicant will also receive an Executive Summary Statement from the IHS program office within 30 days of the conclusion of the ORC.

Note: Any correspondence other than the official NoA signed by an IHS Grants Management Official announcing to the Project Director that an award has been made to their organization is not an authorization to implement their program on behalf of IHS.

2. Administrative Requirements

Cooperative agreements are administered in accordance with the following regulations, policies, and OMB cost principles:

A. The criteria as outlined in this Program Announcement.

B. Administrative Regulations for Grants:

• 45 CFR Part 74, Uniform Administrative Requirements for Awards and Subawards to Institutions of Higher Education, Hospitals, and other Non-profit Organizations.

C. Grants Policy:

• HHS Grants Policy Statement, Revised 01/07.

D. Cost Principles:

• 2 CFR Part 230—Cost Principles for Non-Profit Organizations (OMB Circular A-122).

E. Audit Requirements:

• OMB Circular A-133, Audits of States, Local Governments, and Non-profit Organizations.

3. Indirect Costs

This section applies to all grant recipients that request reimbursement of indirect costs (IDC) in their grant application. In accordance with HHS Grants Policy Statement, Part II-27, IHS requires applicants to obtain a current IDC rate agreement prior to award. The rate agreement must be prepared in accordance with the applicable cost principles and guidance as provided by the cognizant agency or office. A current rate covers the applicable grant activities under the current award's budget period. If the current rate is not on file with the DGM at the time of award, the IDC portion of the budget will be restricted. The restrictions remain in place until the current rate is provided to the DGM.

Generally, IDC rates for IHS grantees are negotiated with the Division of Cost Allocation (DCA) https://rates.psc.gov/ and the Department of Interior (Interior Business Center) http://www.doi.gov/ibc/services/Indirect_Cost_Services/index.cfm. For questions regarding the indirect cost policy, please call (301) 443-5204 to request assistance.

4. Reporting Requirements

The grantee must submit required reports consistent with the applicable deadlines. Failure to submit required reports within the time allowed may result in suspension or termination of an active grant, withholding of additional awards for the project, or other enforcement actions such as withholding of payments or converting to the reimbursement method of payment. Continued failure to submit required reports may result in one or both of the following: (1) the imposition of special award provisions; and (2) the non-funding or non-award of other eligible projects or activities. This requirement applies whether the delinquency is attributable to the failure of the grantee organization or the individual responsible for preparation of the reports. Reports must be submitted electronically via GrantSolutions. Personnel responsible for submitting reports will be required to obtain a login and password for GrantSolutions. Please see the Agency Contacts list in section VII for the systems contact information.

The reporting requirements for this program are noted below.

A. Progress Reports

Program progress reports are required semi-annually, within 30 days after the budget period ends. These reports must include a brief comparison of actual accomplishments to the goals established for the period, or, if applicable, provide sound justification for the lack of progress, and other pertinent information as required. A final report must be submitted within 90 days of expiration of the budget/project period.

B. Financial Reports

Federal Financial Report FFR (SF-425), Cash Transaction Reports are due 30 days after the close of every calendar quarter to the Division of Payment Management, HHS at: http://www.dpm.psc.gov. It is recommended that you also send a copy of your FFR (SF-425) report to your Grants Management Specialist. Failure to submit timely reports may cause a disruption in timely payments to your organization.

Grantees are responsible and accountable for accurate information being reported on all required reports: the Progress Reports and Federal Financial Report.

C. Federal Subaward Reporting System (FSRS)

This award may be subject to the Transparency Act subaward and executive compensation reporting requirements of 2 CFR Part 170.

The Transparency Act requires the OMB to establish a single searchable database, accessible to the public, with information on financial assistance awards made by Federal agencies. The Transparency Act also includes a requirement for recipients of Federal grants to report information about first-tier subawards and executive compensation under Federal assistance awards.

IHS has implemented a Term of Award into all IHS Standard Terms and Conditions, NoAs and funding announcements regarding the FSRS reporting requirement. This IHS Term of Award is applicable to all IHS grant and cooperative agreements issued on or after October 1, 2010, with a $25,000 subaward obligation dollar threshold met for any specific reporting period. Additionally, all new (discretionary) IHS awards (where the project period is made up of more than one budget period) and where: (1) the project period start date was October 1, 2010 or after and (2) the primary awardee will have a $25,000 subaward obligation dollar threshold during any specific reporting period will be required to address the FSRS reporting. For the full IHS award term implementing this requirement and additional award applicability information, visit the Grants Management Grants Policy Web site at: https://www.ihs.gov/dgm/index.cfm?module=dsp_dgm_policy_topics.

Telecommunication for the hearing impaired is available at: TTY (301) 443-6394.

VII. Agency Contacts

1. Questions on the programmatic issues may be directed to: Phyllis Wolfe, Director, Office of Urban Indian Health Programs, 801 Thompson Avenue, Suite 200, Rockville, MD 20852, Phone: (301) 443-1631, Email: phyllis.wolfe@ihs.gov.

2. Questions on grants management and fiscal matters may be directed to: Patience Musikikongo, Grants Management Specialist, Division of Grants Operations, 801 Thompson Avenue, TMP Suite 360, Rockville, MD 20852, Phone: (301) 443-5204, Email: patience.musikikongo@ihs.gov.

3. Questions on systems matters may be directed to: Paul Gettys, Grant Systems Coordinator, 801 Thompson Avenue, TMP Suite 360, Rockville, MD 20852, Phone: (301) 443-5204, Fax: (301) 443-9602, Email: paul.gettys@ihs.gov.

VIII. Other Information

The Public Health Service strongly encourages all cooperative agreement and contract recipients to provide a smoke-free workplace and promote the non-use of all tobacco products. In addition, Public Law 103-227, the Pro-Children Act of 1994, prohibits smoking in certain facilities (or in some cases, any portion of the facility) in which regular or routine education, library, day care, health care, or early childhood development services are provided to children. This is consistent with the HHS mission to protect and advance the physical and mental health of the American people.

Dated: June 28, 2013.
Yvette Roubideaux,
Acting Director, Indian Health Service.

[FR Doc. 2013-16270 Filed 7-5-13; 8:45 am]

BILLING CODE 4165-16-P